DEPARTMENT OF TRANSPORTATION

Federal Aviation Administration

14 CFR Part 39

[Docket No. FAA 2006-24983; Directorate Identifier 2005-NM-196-AD]

RIN 2120-AA64

Airworthiness Directives; Airbus Model A318, A319, A320, and A321 Airplanes

AGENCY: Federal Aviation Administration (FAA), Department of Transportation (DOT).

ACTION: Notice of proposed rulemaking (NPRM).

SUMMARY: The FAA proposes to supersede an existing airworthiness directive (AD) that applies to all Airbus Model A318, A319, A320, and A321 airplanes. The existing AD currently requires a one-time inspection to determine the serial number of both main landing gear (MLG) sliding tubes, repetitive detailed inspections for cracking of the affected MLG sliding tubes, and corrective actions if necessary. This proposed AD would retain these inspections and add new repetitive inspections for cracking of the MLG sliding tubes. This proposed AD would also require eventual replacement of both MLG shock absorbers. Doing this replacement would terminate the repetitive inspection requirements of this proposed AD. This proposed AD results from a determination that additional inspections and mandatory replacement of the MLG shock absorbers are necessary. We are proposing this AD to detect and correct cracking in an MLG sliding tube, which could result in failure of the sliding tube, loss of one axle, and consequent reduced controllability of the airplane.

DATES: We must receive comments on this proposed AD by July 12, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

We invite you to submit any relevant written data, views, or arguments regarding this proposed AD. Send your comments to an address listed in the ADDRESSES section. Include the docket number “Docket No. FAA-2006-24983; Directorate Identifier 2005-NM-196-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On May 28, 2004, we issued AD 2004-11-13, amendment 39-13659 (69 FR 31867, June 8, 2004), for all Airbus Model A318, A319, A320, and A321 airplanes. That AD currently requires a one-time inspection to determine the serial number (S/N) of both main landing gear (MLG) sliding tubes, repetitive inspections for cracking of the MLG sliding tubes, and corrective actions if necessary. That AD resulted from a report that a linear crack was found in a MLG sliding tube at the intersection of the cylinder and the axle due to a non-metallic inclusion in the base metal, and another report that the number of MLG sliding tubes subject to the identified unsafe condition had expanded. We issued that AD to detect and correct cracking in an MLG sliding tube, which could result in failure of the sliding tube, loss of one axle, and consequent reduced controllability of the airplane.

Actions Since Existing AD Was Issued

The preamble to AD 2004-11-13 specified that we considered the requirements “interim action” and that the manufacturer was developing a modification to address the unsafe condition. That AD explained that we may consider further rulemaking if a modification is developed, approved, and available. We have now determined that additional detailed inspections and magnetic particle inspections (MPI) and eventual sliding tube replacement are necessary to ensure safe operation and has issued revised service information. Therefore, we have determined that further rulemaking is indeed necessary; this proposed AD follows from that determination.

Relevant Service Information

Airbus has issued Service Bulletin A320-32A1273, Revision 02, including Appendix 01; dated May 26, 2005, to replace All Operators Telex (AOT) 32A1273, Revision 01, dated May 6, 2004. (AD 2004-11-13 refers to Revision 01 of the AOT as the appropriate source of service information for certain actions.) The service bulletin retains the one-time general visual inspection to determine the S/N of both MLG sliding tubes and the repetitive detailed inspections for cracking of the sliding tube of the MLG shock absorber described by the AOT. The service bulletin also describes procedures for new repetitive detailed inspections and new MPIs of the sliding tube, and eventual replacement of both MLG shock absorbers with new or serviceable MLG shock absorbers equipped with sliding tubes having S/Ns not listed in the service information. Accomplishing the actions specified in the service information is intended to adequately address the unsafe condition.

The service bulletin refers to Messier-Dowty Service Bulletins 201-32-43, Revision 1 (for Airbus Model A321 airplanes), and 200-32-286, Revision 1 (for Airbus Model A318, A319, and A320 airplanes); both dated May 1, 2005, as additional sources of service information for accomplishing the detailed inspections and MPIs.

The Direction Générale de l'Aviation Civile (DGAC) mandated the service information and issued French airworthiness directive F-2005-115, dated July 6, 2005, to ensure the continued airworthiness of these airplanes in France. French airworthiness directive F-2005-115 replaces French airworthiness directive UF-2004-065, dated May 11, 2004, which was referenced in AD 2004-11-13.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

This proposed AD would supersede AD 2004-11-13 and would continue to require a one-time general visual inspection to determine the S/N of both MLG sliding tubes and the repetitive detailed inspections for cracking of the sliding tube of the MLG shock absorber. This proposed AD would also require accomplishing the actions specified in Airbus Service Bulletin A320-32A1273, Revision 02, described previously.

Changes to Existing AD

Due to the new requirements of this proposed AD, paragraphs (h), (i), and (j) of AD 2004-11-13 have been revised as applicable and incorporated as new paragraphs (l), (m), and (n) of this proposed AD.

Clarification of Inspection Terminology

In this proposed AD, the “detailed visual inspection” specified in French airworthiness directive F-2005-115 is referred to as a “detailed inspection.” We have included the definition for a detailed inspection in a note in the proposed AD.

Costs of Compliance

This proposed AD would affect about 720 airplanes of U.S. registry. The following table provides the estimated costs for U.S. operators to comply with this proposed AD at an estimated cost of $80 per work hour. Operators should note that, although all U.S.-registered airplanes are subject to the requirements of the existing AD, there are only 297 possible affected MLG sliding tubes in the worldwide fleet. We have no way of knowing how many affected MLG sliding tubes, if any, are installed in U.S.-registered airplanes. Therefore, the estimated costs to perform the new requirements of this proposed AD apply only to individual sliding tubes; no fleet cost can be determined for these actions.

Estimated Costs to Perform Requirements of Existing AD 2004-11-13
Action | Work hours | Parts | Cost per airplane | Fleet cost
General visual inspection to determine serial number | 1 | None | $80 | $57,600

Estimated Costs to Perform New Requirements of This Proposed AD
Action | Work hours | Parts | Cost per sliding tube
Detailed inspection | 1 | None | $80, per inspection cycle.
Detailed inspection and MPI | 9 | None | $720, per inspection cycle.
Replacement of sliding tube. | 8 | $38,278 to $45,310 | $39,918 to $45,950

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13659 (69 FR 31867, June 8, 2004) and adding the following new airworthiness directive (AD):

Airbus: Docket No. FAA-2006-24983; Directorate Identifier 2005-NM-196-AD.

Comments Due Date

(a) The FAA must receive comments on this AD action by July 12, 2006.

Affected ADs

(b) This AD supersedes AD 2004-11-13.

Applicability

(c) This AD applies to all Airbus Model A318, A319, A320, and A321 airplanes, certificated in any category.

Unsafe Condition

(d) This AD results from a determination that additional inspections and mandatory replacement of the MLG shock absorbers are necessary. We are issuing this AD to detect and correct cracking in an MLG sliding tube, which could result in failure of the sliding tube, loss of one axle, and consequent reduced controllability of the airplane.

Compliance

(e) You are responsible for having the actions required by this AD performed within the compliance times specified, unless the actions have already been done.

Service Information References

(f) The term “service information,” as used in this AD, means Airbus All Operators Telex (AOT) A320-32A1273, Revision 01, dated May 6, 2004; or the Accomplishment Instructions of Airbus Service Bulletin A320-32A1273, Revision 02, including Appendix 01, dated May 26, 2005. After the effective date of this AD, only Airbus Service Bulletin A320-32A1273, Revision 02, may be used.

Note 1: Airbus AOT A320-32A1273, Revision 01, and Airbus Service Bulletin A320-32A1273, Revision 02, refer to Messier-Dowty Service Bulletins 201-32-43 and 200-32-286, both currently at Revision 1, dated May 1, 2005, as additional sources of service information for accomplishing the detailed inspections and magnetic particle inspections (MPI).

Restatement of Certain Requirements of AD 2004-11-13

Serial Number (S/N) Identification

(g) For all airplanes: Within 30 days after June 23, 2004 (the effective date of AD 2004-11-13), do a one-time general visual inspection to determine the S/N of both MLG sliding tubes, in accordance with the service information. Instead of inspecting the MLG sliding tubes, reviewing the airplane maintenance records is acceptable if the S/N of the MLG sliding tubes can be positively determined from that review.

(1) If the S/N of the MLG sliding tube is not listed in the service information: No further action is required by this paragraph for that sliding tube.

(2) If the S/N of the MLG sliding tube is listed in the service information: Do the actions in paragraph (g)(2)(i) or (g)(2)(ii) of this AD, as applicable.

(i) For any MLG not inspected before June 23, 2004: Before further flight, do a detailed inspection of the MLG for cracking in accordance with the service information.

(A) If no cracking is found in any MLG sliding tube: Repeat the detailed inspection thereafter at intervals not to exceed 10 days, until the MLG replacement specified by paragraph (g)(2)(i)(B), (h), or (i) of this AD has been accomplished.

(B) If any cracking is found in any MLG sliding tube: Before further flight replace the part with a new or serviceable part in accordance with a method approved by either the FAA or the Direction Generale de l'Aviation Civile (DGAC) (or its delegated agent). Chapter 32 of the Airbus A318/A319/A320/A321 Aircraft Maintenance Manual (AMM) is one approved method. Installing an MLG sliding tube having an S/N that is not listed in the service information terminates the repetitive inspections required by paragraph (h) of this AD for that MLG sliding tube only.

(ii) For any MLG that has been inspected before June 23, 2004: Within 10 days after that inspection, do the detailed inspection required by paragraph (g)(2)(i) of this AD.

New Requirements of This AD

Detailed Inspection and MPI

(h) For any airplane equipped with any MLG having a sliding tube installed that is identified with a S/N listed in the service information: Within 500 flight cycles after the effective date of this AD, perform a detailed inspection and an MPI of the MLG sliding tube for cracking in accordance with the service information. Repeat these inspections thereafter at intervals not to exceed 1,200 flight cycles until paragraph (i) of this AD has been accomplished. If any cracking is discovered during any inspection required by this paragraph, before further flight, replace the cracked sliding tube with a new or serviceable sliding tube in accordance with the service information. Replacing the MLG sliding tube with a sliding tube having a S/N not listed in the service information terminates the repetitive inspection requirements of this paragraph and paragraph (g)(2)(i)(A) of this AD for that sliding tube only.

Terminating Action

(i) Within 41 months after the effective date of this AD, replace all MLG shock absorbers equipped with sliding tubes having S/Ns listed in the service information with new or serviceable MLG shock absorbers equipped with sliding tubes having S/Ns not listed in the service information, using a method approved by either the Manager, International Branch, ANM-116, Transport Airplane Directorate, FAA; or the DGAC (or its delegated agent). Chapter 32, page block 401, of the Airbus A318/A319/A320/A321 AMM is one approved method. Replacing the MLG shock absorbers in accordance with this paragraph terminates all repetitive inspections required by this AD.

Submission of Cracked Parts Not Required

(j) The service information has instructions to send any cracked part to Messier-Dowty. This AD does not include such a requirement.

Reporting Requirement

(k) Prepare a report of any crack found during any inspection required by paragraph (g) or (h) of this AD. Submit the report to Airbus Customer Services, Engineering and Technical Support, Attention: M.Y. Quimiou, SEE33, fax +33+ (0) 5.6193.32.73, at the applicable time specified in paragraph (k)(1) or (k)(2) of this AD. The report must include the MLG sliding tube P/N and S/N, date of inspection, a description of any cracking found, the airplane serial number, and the number of flight cycles on the MLG at the time of inspection. Under the provisions of the Paperwork Reduction Act of 1980 (44 U.S.C. 3501 et seq.), the Office of Management and Budget (OMB) has approved the information collection requirements contained in this AD and has assigned OMB Control Number 2120-0056.

(1) For any inspection done after June 23, 2004, but before the effective date of this AD: Within 30 days after the inspection or 30 days after the effective date of this AD, whichever comes first.

(2) For any inspection done after the effective date of this AD: Within 30 days after the inspection.

Parts Installation

(l) As of the effective date of this AD, no person may install, on any airplane, any sliding tube, or MLG shock absorber having a sliding tube installed, if the sliding tube has a S/N identified in the service information, unless the sliding tube has been inspected, and any applicable corrective actions have been done, in accordance with paragraph (g)(2)(i), (h), or (i) of this AD.

Alternative Methods of Compliance (AMOCs)

(m)(1) The Manager, International Branch, ANM-116, has the authority to approve AMOCs for this AD, if requested using the procedures found in 14 CFR 39.19.

(2) Before using any AMOC approved in accordance with § 39.19 on any airplane to which the AMOC applies, notify the appropriate principal inspector in the FAA Flight Standards Certificate Holding District Office.

Related Information

(n) French airworthiness directive F-2005-115, dated July 6, 2005, also addresses the subject of this AD.

Issued in Renton, Washington, on May 31, 2006.
Kalene C. Yanamura,
Acting Manager, Transport Airplane Directorate, Aircraft Certification Service.

[FR Doc. E6-9062 Filed 6-9-06; 8:45 am]

BILLING CODE 4910-13-P